COMMITTEE FOR THE IMPLEMENTATION OF TEXTILE AGREEMENTS

Denial of Short Supply Request under the United States—Caribbean Basin Trade Partnership Act (CBTPA)

May 3, 2001.

AGENCY: Committee for the Implementation of Textile Agreements (CITA)

ACTION: Denial of the petition alleging that 30 and 36 singles solution dyed staple spun viscose yarn, for use in knit fabrics, cannot be supplied by the domestic industry in commercial quantities in a timely manner.

FOR FURTHER INFORMATION CONTACT: Janet Heinzen, International Trade Specialist, Office of Textiles and Apparel, U.S. Department of Commerce, (202) 482-3400.

SUMMARY: On March 12, 2001 the Chairman of CITA received a petition from Fabrictex alleging that 30 and 36 singles solution dyed staple spun viscose yarn, for use in knit fabrics, classified in subheading 5510.11.0000 of the Harmonized Tariff Schedule of the United States (HTSUS), cannot be supplied by the domestic industry in commercial quantities in a timely manner. It requested that the President proclaim that apparel articles of U.S. formed fabrics of such yarns be eligible for preferential treatment under the CBTPA. As a result, CITA published a Federal Register Notice (66 FR 154111, March 19, 2001) requesting public comments on the petition. These comments were due April 3, 2001. Based on currently available information, CITA has determined that these products can be supplied by the domestic industry in commercial quantities in a timely manner and therefore denies the petition.

SUPPLEMENTARY INFORMATION:

Authority: Section 213(b)(2)(A)(v)(II) of the Caribbean Basin Economic Recovery Act, as added by Section 211(a) of the CBTPA; Section 6 of Executive Order No. 13191 of January 17, 2001.

Background:

The CBTPA provides for quota- and duty-free treatment for qualifying textile and apparel products. Such treatment is generally limited to products manufactured from yarns or fabrics formed in the United States or a beneficiary country. The CBTPA also provides for quota- and duty-free treatment for apparel articles that are both cut (or knit-to-shape) and sewn or otherwise assembled in one or more CBTPA beneficiary countries from fabric or yarn that is not formed in the United States or a CBTPA beneficiary country, if it has been determined that such fabric or yarn cannot be supplied by the domestic industry in commercial quantities in a timely manner and the President has proclaimed such treatment. In Executive Order No. 13191, the President delegated to CITA the authority to determine whether yarns or fabrics cannot be supplied by the domestic industry in commercial quantities in a timely manner under the CBTPA and directed CITA to establish procedures to ensure appropriate public participation in any such determination. On March 6, 2001, CITA published procedures that it will follow in considering requests. (66 FR 13502).

On March 12, 2001 the Chairman of CITA received a petition from Fabrictex alleging that 30 and 36 singles solution dyed staple spun viscose yarn, for use in knit fabrics, classified in subheading 5510.11.0000 of the HTSUS, cannot be supplied by the domestic industry in commercial quantities in a timely manner. It requested that the President proclaim that apparel articles of U.S. formed fabrics of such yarns be eligible for preferential treatment under the CBTPA.

CITA solicited public comments regarding this request (66 FR 154111, published on March 19, 2001) particularly with respect to whether 30 and 36 singles solution dyed staple spun viscose yarn, classified in HTSUS heading 5510.11.0000, can be supplied by the domestic industry in commercial quantities in a timely manner.

On the basis of currently available information, including its review of the petition and public comments received and its understanding of the industry, CITA has determined that Fabrictex has not established that these yarns cannot be supplied by the domestic industry in commercial quantities in a timely manner, and has determined that these yarns can be so supplied. Written statements were provided by five U.S. manufacturers stating that they can produce these yarns, and U.S. companies state that they have the equipment, capacity, and desire to produce these yarns in commercial quantities in a timely manner and, in fact, are currently producing these yarns. After submitting the petition, Fabrictex approached several of these companies about their production of these yarns. Fabrictex's request is denied.

D. Michael Hutchinson,
Acting Chairman, Committee for the Implementation of Textile Agreements.

[FR Doc. 01-11602 Filed 5-4-01; 10:50 am]

BILLING CODE 3510-DR-F